DEPARTMENT OF THE INTERIOR

National Park Service

[NPS-WASO-NRNHL-DTS#-36510; PPWOCRADI0, PCU00RP14.R50000]

National Register of Historic Places; Notification of Pending Nominations and Related Actions

AGENCY: National Park Service, Interior.

ACTION: Notice.

SUMMARY: The National Park Service is soliciting electronic comments on the significance of properties nominated before August 26, 2023, for listing or related actions in the National Register of Historic Places.

DATES: Comments should be submitted electronically by October 10, 2023.

ADDRESSES: Comments are encouraged to be submitted electronically to National_Register_Submissions@nps.gov with the subject line “Public Comment on <property or proposed district name, (County) Stategt;.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 26, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

IOWA

Woodbury County

Dick's Diner, 723 West 7th St., Sioux City, SG100009407

KANSAS

Bourbon County

A.B. Paine Photo Supply Co., 523 South Main St., Fort Scott, SG100009415

Cowley County

Spring Creek Stone Arch Bridge (Masonry Arch Bridges of Kansas TR), Located in West Creswell Township, 2.5 mi. west of Arkansas City on 262nd Rd., Arkansas City vicinity, MP100009416

Douglas County

Sowers-Crawford Farms Historic District (Agriculture-Related Resources of Kansas MPS), 624 and 646 North 100 Rd., Overbrook vicinity, MP100009424

Finney County

The J.H. Stevens-C.L. Thompson Block Historic District, 401-409 North Main, Garden City, SG100009417

Trego County

Keraus Hardware Store, 121 North Main St., WaKeeney, SG100009418

Wyandotte County

Immanuel Baptist Church, 1335 Quindaro Blvd., Kansas City, SG100009419

Vernon School (Public Schools of Kansas MPS), 3436 North 27th St. or 2700 Sewell Ave., Kansas City, MP100009420

LOUISIANA

Caddo Parish

Mooringsport Masonic Lodge, 144 West Croom St., Mooringsport, SG100009426

Lafayette Parish

St. John's Cathedral (Boundary Increase), 914 St. John St., Lafayette, BC100009428

Orleans Parish

Canal Ford (Non-Residential Mid-Century Modern Architecture in New Orleans MPS), 1661 Canal St., New Orleans, MP100009422

Castle Family House, 917-919 North Tonti St., New Orleans, SG100009427

NEW HAMPSHIRE

Rockingham County

Scammon Farm Historic District, 21-25 River Rd. and off River Rd., Stratham, SG100009402

OKLAHOMA

Garfield County

Bank of Drummond, 402 Main St., Drummond, SG100009399

Rogers County

Will Rogers Memorial Library, 121 North Weenonah Ave., Claremore, SG100009400

SOUTH CAROLINA

Berkeley County

Maude Callen Clinic, 2669 SC 45, Pineville, SG100009408

TEXAS

Harris County

Moncrief-Lenoir Manufacturing Company, 2103 Lyons Ave., Houston, SG100009405

Howard County

Big Spring Hospital, 810 Goliad St., Big Spring, SG100009404

Tom Green County

Twin Mountain Fence Company, 7513 South US 67, San Angelo vicinity, SG100009406

Wilbarger County

Plaza Theater, 1701-1717 Cumberland St., Vernon, SG100009409

WISCONSIN

Door County

BOAZ (schooner) Shipwreck (Great Lakes Shipwreck Sites of Wisconsin MPS), 0.5 mi. southeast of the entrance of North Bay, Door County in Lake Michigan, Liberty Grove vicinity, MP100009414

A request for removal has been made for the following resources:

ALABAMA

Calhoun County

Fort McClellan World War II Housing Historic District, Breman Rd., Bachelor Dr., Iron Mountain Rd., Micron Wy., Anniston, OT06000984

UTAH

Utah County

Skinner, Alfred and Rosy, House (Orem, Utah MPS), 232 W. 800 S., Orem, OT98000662

Additional documentation has been received for the following resource:

MASSACHUSETTS

Berkshire County

Main Street Historic District (Additional Documentation), 1-57 Main St., 1-2 Pine St., 2 Sergeant St., Stockbridge, AD01001466

Nominations submitted by Federal Preservation Officers:

The State Historic Preservation Officer reviewed the following nominations and responded to the Federal Preservation Officer within 45 days of receipt of the nominations and supports listing the properties in the National Register of Historic Places.

ARKANSAS

Newton County

Valley Y Ranch, North of the jct. of AR 74 and Steel Creek Rd., Ponca vicinity, SG100009410

MISSOURI

Greene County

Wilson's Creek National Battlefield (Boundary Increase), 6424 West Farm Rd. 182, Republic vicinity, BC100009403

NEVADA

White Pine County

Dunkahni Archeological District, Address Restricted, Baker vicinity, SG100009411

Authority: Section 60.13 of 36 CFR part 60.

Dated: August 31, 2023.
Sherry A. Frear,
Chief, National Register of Historic Places/National Historic Landmarks Program.

[FR Doc. 2023-20718 Filed 9-22-23; 8:45 am]

BILLING CODE 4312-52-P